SECURITIES AND EXCHANGE COMMISSION

Sunshine Act Meetings

Federal Register CITATION OF PREVIOUS ANNOUNCEMENT: 88 FR 38117, June 12, 2023.

PREVIOUSLY ANNOUNCED TIME AND DATE OF THE MEETING: Thursday, June 15, 2023 at 2:00 p.m.

CHANGES IN THE MEETING: The Closed Meeting scheduled for Thursday, June 15, 2023 at 2:00 p.m. has been changed to Thursday, June 15, 2023 at 10:00 a.m.

CONTACT PERSON FOR MORE INFORMATION: For further information and to ascertain what, if any, matters have been added, deleted or postponed, please contact the Office of the Secretary at (202) 551-5400.

Authority: 5 U.S.C. 552b.

Dated: June 12, 2023.
Vanessa A. Countryman,
Secretary.

[FR Doc. 2023-12822 Filed 6-12-23; 4:15 pm]

BILLING CODE 8011-01-P